DEPARTMENT OF ENERGY

Federal Energy Regulatory Commission

[Docket No. RP02-409-001]

MIGC, Inc.; Notice of Compliance Filing

October 8, 2002.

Take notice that on October 3, 2002, MIGC, Inc. (MIGC) tendered for filing as part of its FERC Gas Tariff, First Revised Volume No. 1, the following tariff sheets, to become effective October 1, 2002:

Sub Sixth Revised Sheet No. 51

Sub Third Revised Sheet No. 52A

Sub Third Revised Sheet No. 74

Sub Third Revised Sheet No. 90A

Sub Original Sheet No. 90B

MIGC asserts that the purpose of this filing is to comply with the Commission's Letter Order issued September 23, 2002, in Docket No. RP02-409, requiring MIGC to revise certain tariffs which were originally filed in MIGC's Order No. 587-O compliance filing in RM96-1-020.

Any person desiring to protest said filing should file a protest with the Federal Energy Regulatory Commission, 888 First Street, NE., Washington, DC 20426, in accordance with Section 385.211 of the Commission's Rules and Regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26098 Filed 10-11-02; 8:45 am]

BILLING CODE 6717-01-P